DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in San Francisco, CA; Mukilteo, WA; and Santa Clara County, CA. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of FTA actions announced herein for the listed public transportation projects will be barred unless the claim is filed on or before February 13, 2015.

FOR FURTHER INFORMATION CONTACT: Nancy-Ellen Zusman, Assistant Chief Counsel, Office of Chief Counsel, (312) 353-2577 or Terence Plaskon, Environmental Protection Specialist, Office of Human and Natural Environment, (202) 366-0442. FTA is located at 1200 New Jersey Avenue SE., Washington, DC 20590. Office hours are from 9:00 a.m. to 5:30 p.m., Monday through Friday, except Federal holidays.

SUPPLEMENTARY INFORMATION: Notice is hereby given that FTA has taken final agency actions by issuing certain approvals for the public transportation projects listed below. The actions on the projects, as well as the laws under which such actions were taken, are described in the documentation issued in connection with the project to comply with the National Environmental Policy Act (NEPA) and in other documents in the FTA administrative record for the projects. Interested parties may contact either the project sponsor or the relevant FTA Regional Office for more information on the project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The projects and actions that are the subject of this notice are:

1. Project name and location: Downtown San Francisco Ferry Terminal Expansion Project, San Francisco, CA. Project sponsor: San Francisco Bay Area Water Emergency Transportation Authority (WETA). Project description: The project is the expansion and improvement of the Ferry Terminal at the San Francisco Ferry Building to accommodate the existing and future planned water transit service outlined in WETA's Implementation and Operations Plan for the San Francisco Bay Area. The project includes demolition, removal, repair, and replacement of existing facilities, as well as construction of three new gates, overwater berthing facilities, and supportive landside improvements (such as boarding areas, passenger waiting and queuing areas, and circulation improvements). Final agency actions: Section 4(f) de minimis impact determination; Section 106 finding of no adverse effect; project-level air quality conformity; and a Record of Decision (ROD), dated August 22, 2014. Supporting documentation: Final Environmental Impact Statement/Environmental Impact Report, dated August 22, 2014.

2. Project name and location: Mukilteo Multimodal Project, Mukilteo, WA. Project sponsor: Washington State Department of Transportation (WSDOT). Project description: The project is designed to improve the operations and facilities serving the mainland terminus of the Mukilteo-Clinton ferry route. The project will construct in-water and upland facilities for ferry terminal operations, provide a six-bay transit center, and improve connections to Sound Transit's Sounder commuter rail at Mukilteo Station. The project will also remove the existing ferry slip and all of its marine structures, including the Port of Everett-owned public fishing pier and day moorage. The project will reconstruct the fishing pier and day moorage near the new multimodal facility. Final agency actions: Section 4(f) determination; a Section 106 Memorandum of Agreement; project-level air quality conformity; and a Record of Decision (ROD), dated August 22, 2014. Supporting documentation: Final Environmental Impact Statement, dated June 2013.

3. Project name and location: Vasona Corridor Light Rail Transit Extension Project, Santa Clara County, CA. Project sponsor: Santa Clara Valley Transportation Authority (SCVTA). Project description: The FTA issued a Record of Decision (ROD) for the Vasona Corridor Light Rail Transit (LRT) project in June 2000. Construction between downtown San Jose and Winchester Station in Campbell began in 2001. Passenger service started in 2005. The southernmost portion of the project between the Winchester Station and the Vasona Junction Station in Los Gatos was not constructed due to insufficient funding. The Vasona Corridor LRT Extension Project would complete the line as originally planned by extending the existing line 11.6 miles from the existing Winchester Station to a new Vasona Junction Station. The extension includes constructing a double set of LRT tracks; lengthening the six existing station platforms along the Vasona Corridor to accommodate longer train sets; increasing parking capacity and improving pedestrian access at Winchester Station; constructing a new Hacienda Station with an optional park-and-ride lot; a new Vasona Junction Station with a park-and-ride lot, as well as end-of-the-line facilities. This notice only applies to the discrete actions taken by the FTA at this time. Nothing in this notice affects the FTA's previous decisions, or notice thereof, for this project. Final agency actions: No use determination of Section 4(f) resources; Section 106 finding of no adverse effect; project-level air quality conformity; and Amended Record of Decision, dated August 22, 2014. Supporting documentation: Supplemental Environmental Assessment, dated January 2014.

Issued on: September 10, 2014.
Lucy Garliauskas,
Associate Administrator Planning and Environment.

[FR Doc. 2014-22065 Filed 9-15-14; 8:45 am]

BILLING CODE P